DEPARTMENT OF COMMERCE

[Docket No. 131202999-4294-02]

Privacy Act System of Records

AGENCY: U.S. Census Bureau, Department of Commerce.

ACTION: Notice; COMMERCE/CENSUS-5, Decennial Census Program.

SUMMARY: The Department of Commerce (Commerce) publishes this notice to announce the effective date of a Privacy Act System of Records notice entitled COMMERCE/CENSUS-5, Decennial Census Program.

DATES: The system of records becomes effective on April 21, 2014.

ADDRESSES: For a copy of the system of records please mail requests to Byron Crenshaw, Policy Coordination Office, Room HQ-8H021, U.S. Census Bureau, Washington, DC 20233-3700.

FOR FURTHER INFORMATION CONTACT: Byron Crenshaw, Policy Coordination Office, Room HQ-8H021, U.S. Census Bureau, Washington, DC 20233-3700, 301-763-6440.

SUPPLEMENTARY INFORMATION: On March 24, 2014, Commerce published and requested comments on a proposed amended Privacy Act System of Records notice entitled COMMERCE/CENSUS-5, Decennial Census Program (79 FR 10090). In that notice the Department announced its intent to amend the system of records to update the categories of individuals and records; the authorities for maintenance of the system of records; the system manager and address; the policies and practices for storage, retention, disposal, and safeguarding the system of records; and records source categories. This amendment also made other minor updates. No comments were received in response to the request for comments. By this notice, the Department is adopting the proposed amended system as final without changes effective April 21, 2014

Dated: April 15, 2014.
Brenda Dolan,
U.S. Department of Commerce, Freedom of Information and Privacy Act Officer.

[FR Doc. 2014-08993 Filed 4-18-14; 8:45 am]

BILLING CODE 3510-07-P